FEDERAL COMMUNICATIONS COMMISSION

[FR No: 42162]

Privacy Act of 1974; System of Records

AGENCY: Federal Communications Commission, Office of Managing Director.

ACTION: Rescindment of a system of records notice.

SUMMARY: The information in this system served to identify the individual(s) to contact in case of a medical or other emergency involving the Commission employee occur while the employee is on the job.

DATES: The rescindment will become effective [30 days after publication].

ADDRESSES: Comments can be submitted to Privacy@fcc.gov.

FOR FURTHER INFORMATION CONTACT: For further information please contact Privacy@fcc.gov.

SUPPLEMENTARY INFORMATION: The Privacy Act provides that an agency may only collect or maintain in its records information about individuals that is relevant and necessary to accomplish a purpose that is required by a statute or executive order. The FCC has determined that this system no longer meets this standard, because a new system—FCC/PSHSB-1—was developed to maintain this information. Therefore, the FCC proposes to rescind FCC/OMD-15 and expunge or transfer the records it contains to FCC/PSHSB-1 in accordance with the requirements in the SORN and the applicable records retention or disposition schedule approved by the National Archives and Records Administration.

SYSTEM NAME AND NUMBER:

FCC/OMD-15, Employee Locator System.

SECURITY CLASSIFICATION:

None.

SYSTEM LOCATION:

Federal Communications Commission, 45 L Street NE, Washington, DC 20554.

SYSTEM MANAGER:

Assistant Managing Director—Human Resources Management (AMD-HRM), Office of the Managing Director (OMD), Federal Communications Commission.

HISTORY:

71 FR 17258 (April 5, 2006).

Federal Communications Commission.
Marlene Dortch,
Secretary.

[FR Doc. 2021-17657 Filed 8-17-21; 8:45 am]

BILLING CODE P